DEPARTMENT OF JUSTICE

Drug Enforcement Administration

[Docket No. DEA-1389]

Bulk Manufacturer of Controlled Substances Application: Curia Missouri Inc.

AGENCY: Drug Enforcement Administration, Justice.

ACTION: Notice of application.

SUMMARY: Curia Missouri Inc. has applied to be registered as a bulk manufacturer of basic class(es) of controlled substance(s). Refer to SUPPLEMENTARY INFORMATION listed below for further drug information.

DATES: Registered bulk manufacturers of the affected basic class(es), and applicants therefore, may submit electronic comments on or objections to the issuance of the proposed registration on or before September 6, 2024. Such persons may also file a written request for a hearing on the application on or before September 6, 2024.

ADDRESSES: The Drug Enforcement Administration requires that all comments be submitted electronically through the Federal eRulemaking Portal, which provides the ability to type short comments directly into the comment field on the web page or attach a file for lengthier comments. Please go to https://www.regulations.gov and follow the online instructions at that site for submitting comments. Upon submission of your comment, you will receive a Comment Tracking Number. Please be aware that submitted comments are not instantaneously available for public view on https://www.regulations.gov. If you have received a Comment Tracking Number, your comment has been successfully submitted and there is no need to resubmit the same comment.

SUPPLEMENTARY INFORMATION: In accordance with 21 CFR 1301.33(a), this is notice that on May 29, 2024, Curia Missouri Inc., 2460 West Bennett Street, Springfield, Missouri 65807-1229, applied to be registered as a bulk manufacturer of the following basic class(es) of controlled substance(s):

Controlled substance | Drug code | Schedule
Gamma Hydroxybutyric Acid | 2010 | I
Amphetamine | 1100 | II
Lisdexamfetamine | 1205 | II
Methylphenidate | 1724 | II
Phenylacetone | 8501 | II
Tapentadol | 9780 | II

The company plans to bulk manufacture the listed controlled substances for internal use intermediates or for sale to its customers. No other activities for these drug codes are authorized for this registration.

Marsha L. Ikner,
Acting Deputy Assistant Administrator.

[FR Doc. 2024-14926 Filed 7-5-24; 8:45 am]

BILLING CODE P